DEPARTMENT OF COMMERCE

National Oceanic and Atmospheric Administration

RIN 0648-XV111

Mid-Atlantic Fishery Management Council (MAFMC); Public Meeting

AGENCY: National Marine Fisheries Service (NMFS), National Oceanic and Atmospheric Administration (NOAA), Commerce.

ACTION: Notice of public meetings.

SUMMARY: The Mid-Atlantic Fishery Management Council (Council) will hold two public webinars to solicit public comments on the Draft 2020-24 Strategic Plan.

DATES: The webinars will be held November 12, 2019, beginning at 6 p.m. and concluding by 8 p.m., and November 13, 2019, beginning at 10 a.m. and concluding by 12 p.m. Written comments must be received on or before 11:59 EST, November 15, 2019. For additional instructions for submitting written comments, see SUPPLEMENTARY INFORMATION.

ADDRESSES: The meetings will be held via webinar, which can be accessed at: http://mafmc.adobeconnect.com/mafmc-strategic-plan/. Meeting audio can also be accessed via telephone by dialing 1-800-832-0736 and entering room number 2122298.

FOR FURTHER INFORMATION CONTACT: Christopher M. Moore, Ph.D., Executive Director, Mid-Atlantic Fishery Management Council, telephone: (302) 526-5255.

SUPPLEMENTARY INFORMATION: The Mid-Atlantic Fishery Management Council has released its Draft 2020-24 Strategic Plan for public review and comment. The plan includes updated vision and mission statements and proposes five major goals to guide the Council's activities and management priorities for the next five years. Development of the plan was informed by public input provided through a survey and outreach meetings in early 2019. The Draft Strategic Plan is available on the Council's website at http://www.mafmc.org/strategic-plan. All interested stakeholders and members of the public are invited to provide comments on the draft plan. The Council will hold two public input webinars during which participants will have an opportunity to ask questions and offer public comments on the draft strategic plan. The webinars will be held on the following dates:

1. Tuesday, November 12, 2019 at 6 p.m.

2. Wednesday, November 13, 2019 at 10 a.m.

The webinars can be accessed at: http://mafmc.adobeconnect.com/mafmc-strategic-plan/. Meeting audio can also be accessed via telephone by dialing 1-800-832-0736 and entering room number 2122298.

Written comments may also be submitted by any of the following methods:

1. Online at http://www.mafmc.org/comments/2020-2024-strategic-plan

2. Email to michelleduval22@gmail.com

3. Mail to Dr. Chris Moore, Executive Director, Mid-Atlantic Fishery Management Council, 800 North State Street, Suite 201, Dover, DE 19901

4. Fax to (302) 674-5399

Please include “Strategic Plan Comments” in the subject line if using email or fax or on the outside of the envelope if submitting comments by mail.

Comments must be submitted by Friday, November 15, 2019, 11:59 EST. The Council will review public comments and approve the final plan at its December meeting in Annapolis, MD.

Special Accommodations

These meetings are physically accessible to people with disabilities. Requests for sign language interpretation or other auxiliary aids should be directed to M. Jan Saunders at the Mid-Atlantic Council Office, (302) 526-5251, at least 5 days prior to the meeting date.

Authority: 16 U.S.C. 1801 et seq.

Dated: October 17, 2019.
Tracey L. Thompson,
Acting Deputy Director, Office of Sustainable Fisheries, National Marine Fisheries Service.

[FR Doc. 2019-22987 Filed 10-21-19; 8:45 am]

BILLING CODE 3510-22-P